DEPARTMENT OF EDUCATION

William D. Ford Federal Direct Loan Program

ACTION: Notice of the annual updates to the income contingent repayment (ICR) plan formula; correction.

SUMMARY: On May 25, 2000, a notice was published in the Federal Register (65 FR 34006-34007) announcing the annual update to the income percentage factors for 2000 which are used to calculate the borrower's monthly payment amount under the income contingent repayment plan in the William D. Ford Direct Loan Program. This information is revised annually to reflect changes in the consumer price index.

Correction

The charts showing sample monthly repayment amounts, mentioned on page 34006, were inadvertently excluded. The charts are (pages 4 and 5) attached to this notice.

FOR FURTHER INFORMATION CONTACT: Don Watson, U.S. Department of Education, Room 3045, ROB-3, 400 Maryland Avenue, SW., Washington, DC 20202-5400. Telephone: (202) 708-8242. If you use a telecommunications device for the deaf (TDD), you may call the Federal Information Relay Service (FIRS) at 1-800-877-8339.

Individuals with disabilities may obtain this document in an alternate format (e.g., Braille, large print, audiotape or computer diskette) on request to the contact person listed in the preceding paragraph.

Electronic Access to This Document

You may review this document, as well as all other Department of Education documents published in the Federal Register, in text or Adobe Portable Document Format (PDF) on the Internet at the following sites:

http://ocfo.ed.gov/fedreg.htm

http://www.ed.gov/news.html

To use the PDF, you must have Adobe Acrobat Reader, which is available free at either of the previous sites. If you have questions about using the PDF, call the U.S. Government Printing Office (GPO), toll free at 1-888-293-6498 or in the Washington D.C., area at (202) 512-1530.

Note: The official version of this document is the document published in the Federal Register. Free internet access to the official edition of the Federal Register and the Code of Federal Regulations is available on GPO access at: http://www.access.gpo.gov/nara/index.html

(Catalog of Federal Domestic Assistance Number 84.268 William D. Ford Federal Direct Loan Program)

(Program Authority: 20 U.S.C. 1087 et seq.)
Dated: June 20, 2000.
Greg Woods,
Chief Operating Officer.

BILLING CODE 400-01-P

[FR Doc. 00-16040 Filed 6-23-00; 8:45 am]

BILLING CODE 4000-01-C